DEPARTMENT OF HOMELAND SECURITY

Coast Guard

[USCG-2003-14706]

Chemical Transportation Advisory Committee

AGENCY: Coast Guard, DHS.

ACTION: Notice of meeting.

SUMMARY: The Chemical Transportation Advisory Committee (CTAC) and its Hazardous Cargo Transportation Security Subcommittee will meet to discuss various issues relating to the marine transportation of hazardous materials in bulk. These meetings will be open to the public.

DATES: CTAC will meet on Thursday, April 17, 2003, from 9 a.m. to 3:30 p.m. The Subcommittee on Hazardous Cargo Transportation Security will meet on Monday, April 14, 2003, from 1 p.m. to 4 p.m., Tuesday, April 15, 2003, from 8 a.m. to 4 p.m., Wednesday, April 16, 2003, from 8 a.m. to 4 p.m. These meetings may close early if all business is finished. Written material and requests to make oral presentations should reach the Coast Guard on or before April 7, 2003. Requests to have a copy of your material distributed to each member of the Committee should reach the Coast Guard on or before April 7, 2003.

ADDRESSES: CTAC will meet at U.S. Coast Guard Headquarters, 2100 Second Street, SW., Washington, DC, in room 2415. The Subcommittee on Hazardous Cargo Transportation Security will meet at Department of Transportation Headquarters, Nassif Building, 400 7th Street, SW., Washington, DC, in room 6244. Send written material and requests to make oral presentations to Commander James M. Michalowski, Executive Director of CTAC, Commandant (G-MSO-3), U.S. Coast Guard Headquarters, 2100 Second Street SW., Washington, DC 20593-0001. This notice is available on the Internet at http://dms.dot.gov.

FOR FURTHER INFORMATION CONTACT: Commander James M. Michalowski, Executive Director of CTAC, or Ms. Sara Ju, Assistant to the Executive Director, telephone 202-267-1217, fax 202-267-4570.

SUPPLEMENTARY INFORMATION: Notice of these meetings is given under the Federal Advisory Committee Act, 5 U.S.C. App. 2.

Agenda of Subcommittee Meeting on April 14-16, 2003

(1) Introduction of Subcommittee members and attendees.

(2) Discussion of inland vessel tracking system.

(3) Discussion of security communications.

(4) Discussion of security training.

(5) Discussion of security drills and exercises.

(6) Discussion of outreach initiatives concerning U.S. Coast Guard security regulations.

Agenda of CTAC Meeting on Thursday, April 17, 2003

(1) Introduction of Committee members and attendees.

(2) Status reports from the Charter Revision and Outreach Workgroups.

(3) Status report from the Hazardous Cargo Transportation Security Subcommittee.

(4) Presentation by the American Chemistry Council on their security initiatives.

(5) Presentation by the Coast Guard's Office of Port, Vessel, and Facility Security (G-MPS).

(6) Presentation by the Coast Guard's Office of Response on the development of the Comprehensive Hazardous Chemical Spill Response Guide.

(7) Presentation by the Coast Guard's Office of Standards Evaluation and Development on the Coast Guard's regulatory process.

(8) Update of Coast Guard Regulatory Projects and IMO Activities.

Procedural

These meetings are open to the public. Please note that the meetings may close early if all business is finished. At the discretion of the Chair, members of the public may make oral presentations during the meetings. If you would like to make an oral presentation at a meeting, please notify the Executive Director and submit written material on or before April 7, 2003. If you would like a copy of your material distributed to each member of the Committee in advance of a meeting, please submit 25 copies to the Executive Director (see ADDRESSES) no later than April 7, 2003.

Information on Services for Individuals With Disabilities

For information on facilities or services for individuals with disabilities, or to request special assistance at the meeting, telephone the Executive Director as soon as possible.

Dated: March 13, 2003.
Joseph J. Angelo,
Director of Standards, Marine Safety, Security and Environmental Protection.

[FR Doc. 03-7543 Filed 3-28-03; 8:45 am]

BILLING CODE 4910-15-P